DEPARTMENT OF AGRICULTURE

Forest Service

Helena-Lewis and Clark Resource Advisory Committee

AGENCY: Forest Service, Agriculture (USDA).

ACTION: Notice of meeting.

SUMMARY: The Helena-Lewis and Clark Resource Advisory Committee (RAC) will hold a public meeting according to the details shown below. The committee is authorized under the Secure Rural Schools and Community Self-Determination Act (the Act) and operates in compliance with the Federal Advisory Committee Act (FACA). The purpose of the committee is to improve collaborative relationships and to provide advice and recommendations to the Forest Service concerning projects and funding consistent with Title II of the Act as well as make recommendations on recreation fee proposals for sites on the Helena-Lewis and Clark National Forest within the counties of Broadwater, Meagher, Teton, Lewis and Clark, and Judith Basin, consistent with the Federal Lands Recreation Enhancement Act.

DATES: An in person and virtual meeting will be held on September 4, 2025, 2 p.m. to 5 p.m., Mountain Daylight Time.

Written and Oral Comments: Anyone wishing to provide in-person or virtual oral comments must pre-register by 11:59 p.m. Mountain Daylight Time on September 2, 2025. Written public comments will be accepted by 11:59 p.m. Mountain Daylight Time on September 2, 2025. Comments submitted after this date will be provided by the Forest Service to the committee, but the committee may not have adequate time to consider those comments prior to the meeting.

All RAC meetings are subject to cancellation. For status of the meeting prior to attendance, please contact the person listed under FOR FURTHER INFORMATION CONTACT.

ADDRESSES: The meeting will be held in-person at 2880 Skyway Drive, Helena, MT 59602, and virtually via telephone and/or videoconference. Members of the public may participate in the meeting virtually by joining via videoconference at: Microsoft Teams/Meeting ID: 264 147 020 814 2, Passcode: Qm6Dk7nQ; or Dial in by phone +1 (202) 650-0123, 235 249 190# United States, Washington, Phone conference ID: 235 249 190#. Committee information and meeting details can be found at the following website www.fs.usda.gov/r01/helena-lewisclark/committees/helena-lewis-and-clark-resource-advisory-committee, or by contacting the person listed under FOR FURTHER INFORMATION CONTACT.

Written Comments: Written comments must be sent by email to chiara.cipriano@usda.gov or via mail (postmarked) to Chiara Cipriano, 28800 Skyway Drive, Helena, MT 59602. The Forest Service strongly prefers comments to be submitted electronically.

Oral Comments: Persons or organizations wishing to make oral comments must pre-register by 11:59 p.m. Mountain Daylight Time, September 2, 2025, and speakers can only register for one speaking slot. Oral comments must be sent by email to chiara.cipriano@usda.gov or via mail (postmarked) to Chiara Cipriano, 28800 Skyway Drive, Helena, MT 59602.

FOR FURTHER INFORMATION CONTACT: Molly Ryan, Designated Federal Officer, by phone at (406) 949-9766 or email to molly.ryan@usda.gov; or Chiara Cipriano, RAC Coordinator, at (406) 594-6497 or chiara.cipriano@usda.gov.

SUPPLEMENTARY INFORMATION: The purpose of the meeting is to:

1. Hear from Title II project proponents and discuss Title II project proposals;

2. Make funding recommendations on Title II projects;

3. Approve meeting minutes; and

4. Schedule the next meeting.

Please contact the person listed under FOR FURTHER INFORMATION CONTACT, by or before the deadline, for all questions related to the meeting. All comments, including names and addresses when provided, are placed in the record and are available for public inspection and copying. The public may inspect comments received upon request.

Meeting Accommodations: If you are a person requiring reasonable accommodation, please make a request in advance for sign language interpreting, assistive listening devices, or other reasonable accommodation. For access to proceedings, please contact the person listed in the section titled FOR FURTHER INFORMATION CONTACT. All reasonable accommodation requests are managed on a case-by-case basis.

Equal opportunity practices, in accordance with USDA policies, will be followed in all membership appointments to the committee.

In accordance with Federal civil rights law and U.S. Department of Agriculture (USDA) civil rights regulations and policies, the USDA, its Agencies, offices, employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Dated: July 29, 2025.
Cikena Reid,
USDA Committee Management Officer.

[FR Doc. 2025-14489 Filed 7-30-25; 8:45 am]

BILLING CODE 3411-15-P